NATIONAL SCIENCE FOUNDATION

NSB Programs and Plans Committee; Notice of Meeting

Agency Holding Meeting: National Science Foundation, National Science Board, Committee on Programs and Plans.

Date and Time: November 19, 2004 2 p.m.-2:45 p.m. Open Session Teleconference.

Place: The National Science Foundation, Stafford One Building, 4201 Wilson Boulevard, Room 220, Arlington, VA 22230.

Status: This meeting will be open to the public.

Matters to be Considered:

Friday, November 19, 2004

Open Session (2 to 2:45 p.m.)

1. Approval on behalf of the NSB [as delegated] NSF management's response to the OIG Semiannual Report to Congress.

2. Report on A&O recommended Board responses to IPA-related questions from staff of House Appropriations Subcommittee for VA, HUD and Independent agencies.

3. Report on draft Board position statements on issues in NAPA recommendations.

For Further Information Contact: Dr. Michael P. Crosby, Executive Officer and NSB Office Director, (703) 292-7000, http://www.nsf.gov/nsb.

Michael P. Crosby,
Executive Officer and NSB Office Director.

[FR Doc. 04-25458 Filed 11-16-04; 8:45 am]

BILLING CODE 7555-01-P